DEPARTMENT OF HEALTH AND HUMAN SERVICES

Centers for Disease Control and Prevention

Partnership Opportunity To Determine the Fit of Air Purifying Filtering Facepiece Respirators Worn Over Beard Bands for Workers With Facial Hair

AGENCY: National Institute for Occupational Safety and Health (NIOSH), Centers for Disease Control and Prevention (CDC), Department of Health and Human Services (HHS).

ACTION: Notice.

SUMMARY: The National Institute for Occupational Safety and Health (NIOSH), of the Centers for Disease Control and Prevention (CDC), announces the opportunity for respirator manufacturers, NIOSH approval holders, and beard band manufacturers to participate, through a collaborative agreement, in a project titled “Fit Testing of Respirators on Those Wearing Beard Bands” to determine how well respirators provide protection to workers with facial hair when using a beard band.

DATES: Interested parties must submit a letter of intent, electronically or written, by September 23, 2024.

ADDRESSES: Submit your letter of intent to Jonisha Pollard, NIOSH National Personal Protective Technology Laboratory, 626 Cochrans Mill Road, Pittsburgh, PA 15236 or by email to JNI3@cdc.gov.

FOR FURTHER INFORMATION CONTACT: Jonisha Pollard, NIOSH National Personal Protective Technology Laboratory, 626 Cochrans Mill Road, Pittsburgh, PA 15236, 412-386-5220 (not a toll-free number), JNI3@cdc.gov.

SUPPLEMENTARY INFORMATION:

Additional Information: The National Institute for Occupational Safety and Health (NIOSH) is seeking to identify respirator manufacturers, NIOSH approval holders, and beard band manufacturers who are interested in collaborating with NIOSH to conduct fit testing of NIOSH Approved® filtering facepiece respirators and particulate-only elastomeric half mask respirators for users having facial hair and using an elastic band (beard band) to secure their facial hair and provide a clean, smooth sealing surface for their respirator as part of their personal protective equipment (PPE).

This research endeavor grew from the need to advance equal access to employment and support worker populations with facial hair who need respiratory protection. Individual fit testing of tight-fitting respirators is a component of Occupational Safety and Health Administration (OSHA) respiratory protection programs in workplaces to better ensure that the respirator selected and worn can achieve the expected fit factor (provide the expected level of protection). The OSHA Respiratory Protection Standard (29 CFR 1910.134(g)(1)(i)(A)) prohibits employees from wearing respirators with tight-fitting facepieces if there is any hair growth between the skin and facepiece sealing surface. Fit testing is not possible without a tight seal of the respirator to the face. Per the OSHA Respiratory Protection Standard, an OSHA-compliant fit test determines the level of tightness for this class of respirators to achieve a fit factor of 100 which is 10 times the assigned protection factor (APF) for this class of respirator (i.e., APF of half facepiece respirator is 10). Organizations, interest groups, and entities representing workers with facial hair who cannot shave because of religious, cultural, medical, or other reasons approached NIOSH to conduct research on fit effectiveness of the respiratory protective device when a beard band is used to improve the seal of the respirator with the wearer's face.

This project aims to determine the fit of respirators when worn over beard bands for workers with facial hair using a government-private partnership development model. This study may help increase respiratory protective devices available to this population of wearers and advance national interests by expanding respirator use to workers with beards. This includes workers in vital fields such as healthcare and public safety.

Collaborative efforts may be made via a Cooperative Research and Development Agreement (CRADA) under the authority of the Federal Technology Transfer Act, 15 U.S.C. 3710a, or another appropriate agreement. No Federal funds will be provided to partners whose equipment is utilized under this project.

NIOSH may select one or more partnering candidates using the following criteria:

1. For partners interested in products, materials, or textiles to be used as a beard band, the product/material/textile should have the ability to:

a. Be secured at the top of the head (e.g., tied or hook-and-loop fasteners;

b. Lay taut and flat across the skin without wrinkles;

c. Be cut (lengthwise and widthwise) and tailored to fit various facial geometries; and

d. Be cleaned and decontaminated using common cleaning agents such as soap and water or cleaning wipes.

2. For partners interested in respirators, the respirator should have:

a. Current NIOSH approval for a filtering facepiece respirator, elastomeric half mask respirator offering particulate protection, or full facepiece respirators offering particulate protections;

b. Two strap head suspension with one strap that goes on the head of the wearer and the other on the neck. Novel head suspensions will not be accepted; and

c. Ability to fit multiple facial sizes.

3. For partners interested in participating in the study, participants must be able to travel to the Pittsburgh or Morgantown area to participate in the study at their own cost.

This announcement does not obligate HHS, CDC, or NIOSH to enter into a contractual or collaborative agreement with any respondents.

Background: The 2019 COVID-19 outbreak highlighted the ongoing need for effective respiratory protective devices for workers especially in healthcare. Fit testing of tight fitting respirators is a component of OSHA respiratory protection programs in workplaces. Respirators should be fit tested using any of the OSHA approved fit test methods before being used in workplaces. The OSHA Respiratory Protection standard, 29 CFR 1910.134(g)(1)(i)(A), states that tight-fitting respirators shall not be worn when facial hair comes between the sealing surface of the facepiece and the face or that interferes with valve function. In this project, an under-respirator cover (beard band) on people with facial hair will be evaluated. In the first phase of this study, respirator fit will be evaluated using the NIOSH Approved® filtering facepiece respirators selected to participate in the study when worn on persons with facial hair. Then respirator fit will be determined for the same individuals wearing a beard band under the respirator.

Follow-on phases of this study may include other types of tight-fitting respirators including particulate-only elastomeric half mask respirators (EHMRs) or full facepiece respirators.

This study may also evaluate the Simulated Workplace Protection Factor (SWPF) afforded by these respirators on users with facial hair. The SWPF refers to the ratio of the concentration of the contaminant in the ambient air to that inside a respirator under conditions that simulate the work environment or various work activities.

This project seeks to support the use of filtering facepiece respirators, EHMRs with particulate protections, or full facepiece elastomeric respirators for workers with facial hair. Results of this project may be used by NIOSH approval holders to seek NIOSH approval for the use of beard bands as part of an approved respirator configuration. The study will provide data useful to support OSHA and NIOSH policy regarding the appropriateness of using beard bands with filtering facepiece respirators and particulate EHMRs or full facepiece respirators. This study may lead to increased means for employers to conform with the OSHA respiratory protection requirements and possibly increase compliance with respiratory protection guidelines and standards among bearded workers in various industries.

John J. Howard,
Director, National Institute for Occupational Safety and Health, Centers for Disease Control and Prevention, Department of Health and Human Services.

[FR Doc. 2024-16351 Filed 7-24-24; 8:45 am]

BILLING CODE 4163-18-P